Proclamation 9191 of October 10, 2014

International Day of the Girl, 2014

By the President of the United States of America

A Proclamation

In every community across the globe, girls and women should have the opportunity to learn, grow, and achieve their full potential. All nations have a responsibility to protect the basic human rights of all people, and when they do—when girls and women are fully valued as equal participants in a country's politics and economy—societies are more likely to succeed.

But throughout the world, too many girls and women are subjected to laws and traditions that serve only to oppress and exclude. Gender-based violence—from domestic violence and human trafficking to genital cutting and early and forced marriage—condemns girls to cycles of dependence, fear, and abuse. Harmful cultural norms and prejudices that tell young women how they are expected to look and act deny the dignity and equality we want for all our daughters. On International Day of the Girl, we stand with girls, women, and male and female advocates in every country who are calling for freedom and justice, and we renew our commitment to build a world where all girls feel safe, supported, and encouraged to pursue their own measure of happiness.

Promoting gender equality and lifting up the status of girls and women have been central to my Administration's national security strategy and foreign policy. We are supporting quality education for girls around the world, advancing policies that enable women and families to live healthier lives, and investing in programs that help nations prevent and respond to violence against girls and women. We are also working to end human trafficking, a crime that affects far too many communities both here at home and around the globe, and of which many victims are girls and women.

As we work to transform the lives of girls and women abroad, we have also redoubled our efforts to ensure there are no barriers to their success here at home. Vice President Joe Biden's 1is2many initiative is raising awareness about the high rates of teen dating violence, and my Administration is engaging school districts, college students, and community members as part of our effort to end sexual assault and domestic violence. Through the Affordable Care Act, we have expanded access to quality, affordable health care to more girls and prohibited insurers from charging them extra simply because of their gender. We continue to invest in community efforts to reduce teen pregnancy. And we have made it a priority to educate and inspire our youngest girls by increasing opportunities for high-quality preschool. As they grow, we will make certain they receive the education and training needed to succeed in the jobs of today and tomorrow—jobs that we are working to ensure will offer equal pay for equal work.

As Americans, we must see the hopes and dreams of our own girls and realize that these are the same dreams of girls around the world. We cannot afford to silence the girl who holds the key to changing her community, or the voice that speaks up to call for peace or further scientific discovery. We cannot allow violence to snuff out the aspirations of young women in America, and we must not accept it anywhere in the world. Today, we resolve to do more than simply shine a light on inequality. With partners across the globe, we support the girls who reach for their future in the face of unimaginable obstacles, and we continue our work to change attitudes and shift beliefs until every girl has the opportunities she deserves to shape her own destiny and fulfill her boundless promise.

NOW, THEREFORE, I, BARACK OBAMA, President of the United States of America, by virtue of the authority vested in me by the Constitution and the laws of the United States, do hereby proclaim October 11, 2014, as International Day of the Girl. I call upon all Americans to observe this day with programs, ceremonies, and activities that advance equality and opportunity for girls everywhere.

IN WITNESS WHEREOF, I have hereunto set my hand this tenth day of October, in the year of our Lord two thousand fourteen, and of the Independence of the United States of America the two hundred and thirty-ninth.

[FR Doc. 2014-24845

Filed 10-16-14; 8:45 am]

Billing code 3295-F5